DEPARTMENT OF THE INTERIOR

National Park Service

Final Environmental Impact Statement, Personal Watercraft Rule-Making, Glen Canyon National Recreation Area, Arizona and Utah

AGENCY: National Park Service, Department of the Interior.

ACTION: Notice of availability of the Final Environmental Impact Statement, Personal Watercraft Rule-Making, Glen Canyon National Recreation Area.

SUMMARY: Pursuant to § 102(2)(C) of the National Environmental Policy Act of 1969 (Pub L. 91-190, as amended) and the Council on Environmental Quality Regulations (40 CFR part 1500-1508), the National Park Service (NPS), Department of the Interior, announces the availability of the Final Environmental Impact Statement (FEIS), Personal Watercraft (PWC) Rule-Making, Glen Canyon National Recreation Area (NRA), Arizona and Utah. The FEIS assesses the potential impacts of PWC use for Glen Canyon NRA. The FEIS describes and analyzes three alternatives to manage PWC on Lake Powell to provide for the long-term protection of park resources while allowing a range of recreational opportunities to support visitor needs. Each alternative identifies proposed actions related to visitor use zones and accessible developed areas, facilities and recreational services, visitor safety and conflicts, resource protection, and park operations.

The FEIS will be used to make reasoned decisions about whether to continue PWC use at Glen Canyon NRA. The NPS determination will be based on the unit's enabling statute, mission, management objectives, resources, values, and other uses, as well as impacts from PWC on the unit. Consistent with Bluewater Network v. Stanton, No. CV002093 (D.D.C. 2000) and the settlement agreement approved by the court on April 11, 2001, the FEIS includes an evaluation of various PWC use alternatives to determine their effects on water quality, air quality, the soundscape, wildlife, wildlife habitat, shoreline vegetation, visitor conflicts, safety, and other appropriate topics.

Public meetings were initiated in August 2001 to solicit early input into the scope and range of issues to be analyzed. A notice of intent announcing the decision to prepare the environmental impact statement was published in the Federal Register on August 1, 2001. Scoping comments continued to be accepted and considered within the planning process.

During this comment period, the NPS facilitated several hundred discussions and briefings with congressional delegations, local elected officials, tribal representatives, public service organizations, educational institutions, and other interested members of the public. Over 3,500 letters and e-mail messages concerning PWC use on Lake Powell were received. The major issues raised during this period are summarized in Chapter 1, Purpose of and Need for Action.

The FEIS includes two “action” alternatives and one “no action” (existing conditions) alternative. Under each of the action alternatives, a Special Regulation would be promulgated to address the continued use of PWC in the NRA, in accordance with the settlement agreement signed by the United States District Court for the District of Columbia on April 11, 2001. This agreement between the NPS and Bluewater Network requires all park units wishing to continue PWC use to promulgate special regulations after an environmental analysis is conducted in accordance with the 1969 National Environmental Policy Act.

The alternatives presented in the draft environmental impact statement (DEIS) were modified in the FEIS in response to over 30,000 public and agency comments received on the DEIS. The primary modifications to Alternatives A and B include conducting a 3-year pilot study to identify and develop conflict resolution techniques and preparing a comprehensive lake management plan to address all uses of Lake Powell. Additionally, Alternative B was modified to include compliance with 2006 emission standards (described below) and with more geographic restrictions. The alternatives in the FEIS are summarized as follows.

Alternative A, Continue PWC Use as Currently Managed under a Special Regulation, would allow PWC use identical to that before September 2002 under a special regulation. PWC use would be authorized for all areas of the recreation area above Glen Canyon Dam except where prohibited by the Superintendent's Compendium, 2002. Alternative A would also include a 3-year pilot study to identify the techniques and area restrictions that would be most effective in reducing visitor conflicts. The pilot study would support the development of a comprehensive lake management plan which would consider all activities on Lake Powell, including the potential impacts of all watercraft, to better protect recreation area resources, improve visitor safety, and reduce conflicts.

Alternative B (the modified preferred alternative), Promulgate a Special Regulation to Continue PWC Use with Additional Management Restrictions, would be similar to Alternative A. However, it would include additional geographic restrictions on PWC use in portions of the Colorado, Escalante, Dirty Devil, and San Juan Rivers to increase protection of environmental values and reduce visitor conflict and would implement a flat wake zone. This alternative would also require that PWC in the recreation area meet the 2006 U.S. Environmental Protection Agency emissions standards by the end of 2012 and in subsequent years. PWC not meeting the standards would no longer be permitted to operate within Glen Canyon NRA beginning in 2013. In addition, Alternative B also would include strategies to better protect recreation area resources, improve visitor safety, and reduce conflicts. These strategies would include conducting a 3-year pilot study to identify the techniques and area restrictions that would be most effective in reducing conflicts and preparing a comprehensive lake management plan addressing all uses.

Under Alternative C, No Action (PWC Use Eliminated), the NPS would not take action to promulgate a special regulation that would allow PWC use. Therefore, under the provisions of the March 21, 2000 final rule, all PWC use would be permanently eliminated from the recreation area.

DATES: The National Park Service will execute a Record of Decision (ROD) no sooner than 30 days following publication of the notice of availability of the Final Environmental Impact Statement in the Federal Register by the Environmental Protection Agency.

ADDRESSES: Information will be available for public review at the Carl Hayden Visitor Center, Glen Canyon Dam, 1000 Hwy. 89, Page, Arizona 86040, (928) 608-6404, in the office of the Superintendent, Park Headquarters, 691 Scenic View Drive, Page, Arizona 86040, (928) 608-6200, and at the following Web site, http://www.nps.gov/glca/plan.htm.

FOR FURTHER INFORMATION CONTACT: Brian Wright, Glen Canyon National Recreation Area, (928) 608-6272.

Dated: May 1, 2003.
Karen Wade,
Director, Intermountain Region, National Park Service.

[FR Doc. 03-12341 Filed 5-15-03; 8:45 am]

BILLING CODE 4312-EF-P